DEPARTMENT OF HOMELAND SECURITY

Coast Guard

[USCG-2005-22964]

Towing Safety Advisory Committee

AGENCY: Coast Guard, DHS.

ACTION: Notice of meeting.

SUMMARY: The Licensing Working Group of the Towing Safety Advisory Committee (TSAC) will meet to discuss matters relating to specific issues of towing safety. The meetings will be open to the public.

DATES: The Licensing Working Group will meet on Thursday, December 1, 2005 from 8 a.m. to 3:30 p.m. (local). The meeting may close early if all business is finished. Written material and requests to make oral presentations should reach the Coast Guard on or before November 28, 2005. Requests to have a copy of your material distributed to each member of the Working Group should reach the Coast Guard on or before November 28, 2005.

ADDRESSES: The Working Group will meet at the offices of the National Maritime Center—9th floor conference room; 4200 Wilson Blvd.; Arlington, VA 22203-1804. Please bring a government-issued, photo ID. Send written material and requests to make oral presentations to Mr. Gerald Miante, Commandant (G-MSO-1), U.S. Coast Guard Headquarters, 2100 Second Street SW., Washington, DC 20593-0001. This notice and related documents are available on the Internet at http://dms.dot.gov under the docket number USCG-2005-22964.

FOR FURTHER INFORMATION CONTACT: Mr. Gerald Miante, Assistant Executive Director of TSAC, telephone 202-267-0214, fax 202-267-4570, or e-mail gmiante@comdt.uscg.mil. If you plan to attend the meeting, please notify Ms. Jennifer Carpenter, American Waterways Operators; at (703) 841-9300 by November 28, 2005. For security purposes, your name must be on a pre-vetted list.

SUPPLEMENTARY INFORMATION: Notice of these meetings is given under the Federal Advisory Committee Act, 5 U.S.C. App. 2 (Pub.L.92-463, 86 Stat.770, as amended).

Agenda of Working Group Meeting: The agenda for the Licensing Working Group tentatively includes the following item:

The development of an approved model training program for towing vessel wheelhouse personnel.

Procedural

The meeting is open to the public. Please note that the meeting may close early if all business is finished. At the Chair's discretion, members of the public may make oral presentations during the meeting. If you would like to make an oral presentation at the meeting, please notify the Assistant Executive Director (as provided above in FOR FURTHER INFORMATION CONTACT) no later than November 28, 2005. Written material for distribution at the meeting should reach the Coast Guard no later than November 28, 2005.

Information on Services for Individuals With Disabilities

For information on facilities or services for individuals with disabilities or to request special assistance at the meeting, contact Mr. Miante at the number listed in FOR FURTHER INFORMATION CONTACT as soon as possible.

Dated: November 8, 2005.
Howard L. Hime,
Acting Director of Standards, Marine Safety, Security and Environmental Protection.

[FR Doc. 05-22596 Filed 11-14-05; 8:45 am]

BILLING CODE 4910-15-P